FEDERAL ELECTION COMMISSION

Sunshine Act Meetings

AGENCY: Federal Election Commission.

DATE AND TIME: Thursday, September 14, 2017 at 11:15 a.m.

PLACE: 999 E Street NW., Washington, DC (Ninth Floor).

STATUS: This meeting will be open to the public.

ITEMS TO BE DISCUSSED:

Draft Advisory Opinion 2017-06: Stein and Gottlieb.

Draft Advisory Opinion 2017-05: Great America PAC and Committee to Defend the President.

Draft Advisory Opinion 2017-09: Libertarian Association of Massachusetts.

Draft Advisory Opinion 2017-10: Citizens Against Plutocracy.

Management and Administrative Matters.

Individuals who plan to attend and require special assistance, such as sign language interpretation or other reasonable accommodations, should contact Dayna C. Brown, Secretary and Clerk, at (202) 694-1040, at least 72 hours prior to the meeting date.

PERSON TO CONTACT FOR INFORMATION: Judith Ingram, Press Officer, Telephone: (202) 694-1220.

Dayna C. Brown,
Secretary and Clerk of the Commission.

[FR Doc. 2017-19355 Filed 9-7-17; 4:15 pm]

BILLING CODE 6715-01-P